DEPARTMENT OF AGRICULTURE

Forest Service

Boundary Description and Final Map for Roaring Wild and Scenic River, Mount Hood National Forest, Oregon

AGENCY: Forest Service, USDA.

ACTION: Notice of availability.

SUMMARY: In accordance with section 3(b) of the Wild and Scenic Rivers Act, the USDA Forest Service, Washington Office, is transmitting the final boundary description and map of the Roaring Wild and Scenic River to Congress.

DATES: The boundaries and classification of the Roaring Wild and Scenic River shall not become effective until ninety (90) days after they have been forwarded to the President of the Senate and the Speaker of the House of Representatives. In accordance with Section 3(b) of the Wild and Scenic Rivers Act (82 Stat. 906 as amended; 16 U.S.C. 1274), the detailed boundary descriptions and final maps were forwarded on August 21, 2013.

ADDRESSES: Documents may be viewed at USDA Forest Service, Wilderness and Wild and Scenic Rivers, 1601 N. Kent Street, Plaza C, Suite 4110B, Rosslyn, VA 22209, and at the Supervisor's Office of the Mount Hood National Forest, 16400 Champion Way, Sandy, Oregon 97055.

FOR FURTHER INFORMATION CONTACT: Information may be obtained by contacting the following office: Mount Hood National Forest, 16400 Champion Way, Sandy, Oregon 97055, 503-668-1700, lbpramuk@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The Roaring Wild and Scenic River boundary is available for review at the following offices: USDA Forest Service, Wilderness and Wild and Scenic Rivers, 1601 N. Kent Street, Plaza C, Suite 4110B, Rosslyn, VA 22209; USDA Forest Service Pacific Northwest Region, 333 SW. First Avenue, Portland, OR 97208.

The Omnibus Oregon Wild and Scenic Rivers Act of October 28, 1988 designated the Roaring Wild and Scenic River, to be Administered by the Secretary of Agriculture. As specified by law, the boundary will not be effective until ninety (90) days after Congress receives the transmittal.

Dated: September 4, 2013.
Kent Connaughton,
Regional Forester, Pacific Northwest Region.

[FR Doc. 2013-22141 Filed 9-12-13; 8:45 am]

BILLING CODE 3410-11-P